DEPARTMENT OF TRANSPORTATION

Federal Aviation Administration

14 CFR Part 39

[Docket No. FAA-2019-0437; Product Identifier 2019-NM-074-AD; Amendment 39-19800; AD 2019-23-06]

RIN 2120-AA64

Airworthiness Directives; The Boeing Company Airplanes

AGENCY: Federal Aviation Administration (FAA), DOT.

ACTION: Final rule.

SUMMARY: The FAA is adopting a new airworthiness directive (AD) for certain The Boeing Company Model 757-200, -200CB, and -300 series airplanes. This AD was prompted by reports of cracks initiating in the fuselage frame web at body station (STA) 1640. This AD requires, depending on configuration, a general visual inspection for any previous repair, such as any reinforcing repair or local frame replacement repair, repetitive open hole high frequency eddy current (HFEC) inspections for any crack of the fuselage frame web fastener holes, on the left and right side of the airplane, and applicable on-condition actions. The FAA is issuing this AD to address the unsafe condition on these products.

DATES: This AD is effective January 13, 2020.

The Director of the Federal Register approved the incorporation by reference of certain publications listed in this AD as of January 13, 2020.

ADDRESSES: For Boeing service information identified in this final rule, contact Boeing Commercial Airplanes, Attention: Contractual & Data Services (C&DS), 2600 Westminster Blvd., MC 110-SK57, Seal Beach, CA 90740-5600; phone: 562-797-1717; internet: https://www.myboeingfleet.com.

For Aviation Partners Boeing service information identified in this final rule, contact Aviation Partners Boeing, 2811 South 102nd St., Suite 200, Seattle, WA 98168; phone: 206-830-7699; fax: 206-767-0535; email: leng@aviationpartners.com; internet: http://www.aviationpartnersboeing.com.

You may view this service information at the FAA, Transport Standards Branch, 2200 South 216th St., Des Moines, WA. For information on the availability of this material at the FAA, call 206-231-3195. It is also available on the internet at https://www.regulations.gov by searching for and locating Docket No. FAA-2019-0437.

Examining the AD Docket

You may examine the AD docket on the internet at https://www.regulations.gov by searching for and locating Docket No. FAA-2019-0437; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Peter Jarzomb, Aerospace Engineer, Airframe Section, FAA, Los Angeles ACO Branch, 3960 Paramount Boulevard, Lakewood, CA 90712-4137; phone: 562-627-5234; fax: 562-627-5210; email: peter.jarzomb@faa.gov.

SUPPLEMENTARY INFORMATION:

Discussion

The FAA issued a notice of proposed rulemaking (NPRM) to amend 14 CFR part 39 by adding an AD that would apply to certain The Boeing Company Model 757-200, -200CB, and -300 series airplanes. The NPRM published in the Federal Register on June 21, 2019 (84 FR 29102). The NPRM was prompted by reports of cracks initiating in the fuselage frame web at STA 1640. The NPRM proposed to require, depending on configuration, a general visual inspection for any previous repair, such as any reinforcing repair or local frame replacement repair, repetitive open hole HFEC inspections for any crack of the fuselage frame web fastener holes, on the left and right side of the airplane, and applicable on-condition actions.

The FAA is issuing this AD to address cracks initiating in the fuselage frame web at STA 1640, which could result in reduced structural integrity of the airplane.

Comments

The FAA gave the public the opportunity to participate in developing this final rule. The following presents the comments received on the NPRM and the FAA's response to each comment.

Support for the NPRM

United Airlines and Aviation Partners Boeing (APB) provided their concurrence with the NPRM.

Request To Clarify Costs of Required Actions

Boeing requested that the FAA clarify the costs of the actions required by the NPRM by separating the access and close-out hours as separate actions, and specifying that the on-condition costs are providing the costs of oversizing fastener holes, if necessary. Boeing pointed out that the costs listed also include the access and close-out hours, which comprise the majority of the hours for each action, causing the required actions to appear overly expensive. Boeing mentioned that operators are expected to do either a one-time general visual inspection, followed by an open hole HFEC inspection, or do an open hole HFEC inspection, depending on the condition and utilization rate of the airplane. Boeing also pointed out that the on-condition costs are not defined in the service information and that the NPRM is unclear if the on-condition costs refer to fastener replacement installations or fastener hole oversizing. Additionally, Boeing mentioned that the costs of fastener re-installation are already included in the costs for an open hole HFEC inspection. However, Boeing stated that the FAA estimate of one work-hour per airplane for on-condition costs of oversizing fastener holes seems reasonable.

The FAA agrees with the request to clarify the costs of the actions required by this AD for the reasons provided. The FAA has revised the cost estimates provided in this AD to clarify the costs of the required actions to include access and close-out hours only as part of the costs for the HFEC inspections, and to revise the work-hours for the general visual inspection to specify only 1 work-hour. We have also revised the cost estimates in this AD to specify that the on-condition costs are the costs of oversizing fastener holes.

Request To Clarify the Unsafe Condition

Boeing requested that the FAA clarify the unsafe condition. Boeing pointed out that the unsafe condition mitigated by the proposed AD is for cracks initiating in the fuselage frame web at STA 1640 in hidden areas that may not be sufficiently detectable by doing the actions specified in Boeing Alert Service Bulletin 757-53A0108.

The FAA agrees that clarification is necessary and that the actions specified in Boeing Alert Service Bulletin 757-53A0108 are not adequate for reliable detection of cracks that initiate in the fuselage frame web at STA 1640. AD 2018-06-07, Amendment 39-19227 (83 FR 13398, March 29, 2018) (“AD 2018-06-07”) requires inspections in accordance with Boeing Alert Service Bulletin 757-53A0108, dated November 14, 2016. However, the FAA does not agree that referring to hidden areas is clarifying, because the term “hidden areas” is vague. The FAA has revised the unsafe condition specified in paragraph (e) of this AD to specify that this AD is addressing cracks initiating in the fuselage frame web at STA 1640, which, if not detected and corrected, could result in reduced structural integrity of the airplane.

Request To Clarify the Types of Winglets Specified in the Proposed AD

Boeing requested that the FAA revise paragraph (g)(2) of the proposed AD to clarify the types of winglets that may be installed on The Boeing Company Model 757 airplanes. Boeing pointed out that the types of winglets described in Supplemental Type Certificate (STC) ST01518SE and in APB's service bulletin AP757-53-002 are specified as “blended and scimitar blended winglets,” not “scimitar winglets.” Boeing also pointed out that paragraph (g)(2) of the proposed AD referred to “blended or scimitar winglets.”

The FAA agrees for the reasons provided and has revised paragraph (g)(2) of this AD accordingly.

Request To Specify That Certain Freighter Conversion Airplanes Perform the Actions Specified for Groups 2 and 5

FedEx and VT Mobile Aerospace Engineering (MAE) Inc., requested that the FAA revise the NPRM to specify that Group 1 and 4 airplanes that have been modified to freighter configuration using VT MAE Inc. STC ST03562AT, perform the actions specified for Groups 2 and 5, as specified in Boeing Alert Requirements Bulletin 757-53A0112 RB, dated November 16, 2018. VT MAE Inc. pointed out that at the STA 1640 frame, in the stringer 14 left hand side and right hand side area, the modification to freighter configuration using VT MAE Inc. STC ST03562AT, is identical to that of The Boeing Company Model 757-200 special freighter airplanes identified as Groups 2 and 5 in Boeing Alert Requirements Bulletin 757-53A0112 RB, dated November 16, 2018. FedEx noted that its fleet of The Boeing Company Model 757-200 airplanes were converted to a configuration similar to The Boeing Company Model 757-200 special freighter airplanes, and are no longer configured as passenger airplanes. FedEx pointed out that as written, Boeing Alert Requirements Bulletin 757-53A0112 RB, dated November 16, 2018, Groups the FedEx fleet into Groups 1 and 4, and that the inspection areas for those Groups are no longer applicable. FedEx requested that the FAA incorporate its suggested changes into the final rule to avoid the need for an alternative method of compliance (AMOC) after issuance of the final rule.

The FAA agrees with the request for the reasons provided. The FAA has added paragraphs (g)(3) and (g)(4) of this AD to require, for airplanes that have been converted from passenger to freighter configuration using VT MAE Inc. STC ST03562AT, the actions required for Groups 2 and 5, as applicable, as specified in Boeing Alert Requirements Bulletin 757-53A0112 RB, dated November 16, 2018.

Request To Terminate the Inspection Requirements if a Repair Is Installed for a Crack Finding

FedEx requested that the FAA allow termination of the inspection requirements if a repair is installed for a crack finding. FedEx pointed out that if a repair is installed for a crack finding, the repair instructions obtained from The Boeing Company Organization Designation Authorization (ODA), the STC holder, or the FAA would have repetitive inspection requirements separate from those specified in the NPRM. The FAA infers that FedEx is requesting termination of the inspection requirements to help avoid overlapping inspections in a repaired area.

The FAA disagrees with the request to allow termination of the inspection requirements if a repair is installed for a crack finding. At this time, the service information does not include an approved repair that resolves the unsafe condition addressed by this AD. Inspections for repairs required by FAA regulations address structural failure due to fatigue, corrosion, manufacturing defects, or accidental damage, and do not resolve unsafe conditions that are addressed by an AD. If a repair is required for cracks found during inspections required by this AD, the FAA will consider requests for approval of an AMOC.

Request To Specify That an AMOC for a Certain Other AD Is Necessary

FedEx requested that the FAA include a statement in paragraph (i) of the proposed AD specifying that if a repair is required for a crack found during inspections required by the NPRM, that an AMOC for AD 2018-06-07 is required. FedEx mentioned that it has already experienced a situation that when repairing a crack found using Boeing Alert Requirements Bulletin 757-53A0112 RB, dated November 16, 2018, an AMOC to AD 2018-06-07 was required to complete the repair.

The FAA disagrees with the request to include a statement in paragraph (j) of this AD (which was referred to as paragraph (i) of the proposed AD) specifying that if a repair is required for a crack found during inspections required by this AD, that an AMOC for AD 2018-06-07 is required. However, any repair in this area that affects compliance with this AD, with AD 2018-06-07, or with both ADs, will require an AMOC to comply with the requirements of the affected ADs. The FAA has included note 2 to paragraphs (g)(1) through (4) of this AD to denote that certain repairs might affect AD 2018-06-07.

Request To Allow Later Revisions to the Service Information

John Straiton requested that the FAA revise the proposed AD to allow the use of later revisions to the service information. The commenter pointed out that allowing the use of later revisions would make it easier for the operator to ensure compliance and that all maintenance is certified to the latest maintenance data. The commenter also mentioned that allowing the use of later revisions would make it unnecessary for operators to wait for new ADs that include the latest revisions to the service information, or for operators to request an AMOC that allows the use of the latest revisions to the service information. The commenter stated that this would reduce the delay in implementation of the latest revisions to the service information and also reduce the maintenance costs associated with the issuance of AMOCs. The commenter also pointed out that the European Union Aviation Safety Agency (EASA) incorporates similar language in its ADs.

The FAA disagrees with the request to allow later revisions to the service information. The FAA may not refer to any document that does not yet exist in an AD. In general terms, the FAA is required by Office of the Federal Register (OFR) regulations for approval of materials incorporated by reference, as specified in 1 CFR 51.1(f), to either publish the service document contents as part of the actual AD language; or submit the service document to the OFR for approval as referenced material, in which case the FAA may only refer to such material in the text of an AD. The AD may refer to the service document only if the OFR approved it for incorporation by reference. See 1 CFR part 51.

To allow operators to use later revisions of the referenced document (issued after publication of the AD), either the FAA must revise the AD to reference specific later revisions, or the affected party must request approval to use later revisions as an AMOC with this AD under the provisions of paragraph (j) of this AD.

Request for an Exception to Certain Service Information

American Airlines (AAL) and APB requested that the FAA revise the proposed AD to include a new exception. AAL requested that the FAA include an exception that specifies “Where APB Alert Service Bulletin AP757-53-002, Revision 2, dated April 11, 2019, uses the phrase the original issue of Service Bulletin AP757-53-001, this AD requires using the original issue, or Revision 1, of Service Bulletin AP757-53-001.” APB pointed out that the original issue of APB Service Bulletin AP757-53-001, was withdrawn. APB also stated their support for AAL's request.

AAL also pointed out that while APB Alert Service Bulletin AP757-53-002, Revision 2, dated April 11, 2019, specifies the original issue of APB Service Bulletin AP757-53-001, AD 2018-06-07 requires operators to use Revision 1 of APB Service Bulletin AP757-53-001. AAL noted that this creates conflicting verbiage between the NPRM and AD 2018-06-07.

The FAA agrees to clarify. The FAA notes that APB Alert Service Bulletin AP757-53-002, Revision 3, dated August 14, 2019, has been issued to correct the reference from the original issue of APB Service Bulletin AP757-53-001 to Revision 1 of APB Service Bulletin AP757-53-001, as it relates to whether inspections have previously been done. No additional work is required for airplanes on which the actions specified in this AD were done using APB Alert Service Bulletin AP757-53-002, Revision 2, dated April 11, 2019. The FAA has revised this final rule to refer to APB Alert Service Bulletin AP757-53-002, Revision 3, dated August 14, 2019, as the appropriate source of service information for compliance with this AD, and to provide credit for actions done before the effective date of this AD using APB Alert Service Bulletin AP757-53-002, Revision 2, dated April 11, 2019.

Conclusion

The FAA has reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

The FAA reviewed the following service information.

• Aviation Partners Boeing Alert Service Bulletin AP757-53-002, Revision 3, dated August 14, 2019.

• Boeing Alert Requirements Bulletin 757-53A0112 RB, dated November 16, 2018.

This service information describes procedures for, depending on configuration, a general visual inspection for any previous repair, such as any reinforcing repair or local frame replacement repair, repetitive open hole HFEC inspections for any crack of the fuselage frame web fastener holes, on the left and right side of the airplane, and applicable on-condition actions. On-condition actions include installation of fasteners, oversizing of fastener holes, and repair. These documents are distinct since they apply to different airplane models in different configurations.

This service information is reasonably available because the interested parties have access to it through their normal course of business or by the means identified in the ADDRESSES section.

Costs of Compliance

The FAA estimates that this AD affects 475 airplanes of U.S. registry. The FAA estimates the following costs to comply with this AD:

Estimated Costs for Required Actions
Action | Labor cost | Parts cost | Cost per product | Cost on U.S. operators
General Visual Inspection | 1 work-hours × $85 per hour = $85 | $0 | $85 | $40,375.
Open Hole HFEC Inspection | 35 work-hours × $85 per hour = $2,975 per inspection cycle | 0 | $2,975 per inspection cycle | $1,413,125 per inspection cycle.

The FAA estimates the following costs to do any necessary on-condition installation of fasteners and oversizing of fastener holes that is required. The FAA has no way of determining the number of aircraft that might need these on-condition actions:

Estimated Costs of On-Condition Installation of Fasteners and Oversizing of Fastener Holes
Labor cost | Parts cost | Cost per product
1 work-hour × $85 per hour = $85 | $0 | $85

We have received no definitive data that would enable us to provide cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-23-06 The Boeing Company: Amendment 39-19800; Docket No. FAA-2019-0437; Product Identifier 2019-NM-074-AD.

(a) Effective Date

This AD is effective January 13, 2020.

(b) Affected ADs

None.

(c) Applicability

This AD applies to The Boeing Company Model 757-200, -200CB, and -300 series airplanes, certificated in any category, as identified in Boeing Alert Requirements Bulletin 757-53A0112 RB, dated November 16, 2018.

(d) Subject

Air Transport Association (ATA) of America Code 53, Fuselage.

(e) Unsafe Condition

This AD was prompted by reports of cracks initiating in the fuselage frame web at body station (STA) 1640. The FAA is issuing this AD to address cracks initiating in the fuselage frame web at STA 1640, which, if not detected and corrected, could result in reduced structural integrity of the airplane.

(f) Compliance

Comply with this AD within the compliance times specified, unless already done.

(g) Required Actions

(1) For all airplanes except those identified in paragraphs (g)(2) through (4) of this AD: Except as specified by paragraph (h) of this AD, at the applicable times specified in the “Compliance” paragraph of Boeing Alert Requirements Bulletin 757-53A0112 RB, dated November 16, 2018, do all applicable actions identified in, and in accordance with, the Accomplishment Instructions of Boeing Alert Requirements Bulletin 757-53A0112 RB, dated November 16, 2018.

Note 1 to paragraphs (g)(1) through (4): Guidance for accomplishing the actions required by this AD can be found in Boeing Alert Service Bulletin 757-53A0112, dated November 16, 2018, which is referred to in Boeing Alert Requirements Bulletin 757-53A0112 RB, dated November 16, 2018.

Note 2 to paragraphs (g)(1) through (4): Accomplishing certain repairs required by this AD might affect AD 2018-06-07, Amendment 39-19227 (83 FR 13398, March 29, 2018) (“AD 2018-06-07”), and necessitate requesting an alternative method of compliance (AMOC) to AD 2018-06-07.

(2) For airplanes on which Aviation Partners Boeing (APB) blended or scimitar blended winglets are installed in accordance with Supplemental Type Certificate (STC) ST01518SE: Except as specified by paragraph (h) of this AD, at the applicable times specified in paragraph 1.E., “Compliance” of APB Alert Service Bulletin AP757-53-002, Revision 3, dated August 14, 2019, do all applicable actions identified in, and in accordance with, the Accomplishment Instructions of Boeing Alert Requirements Bulletin 757-53A0112 RB, dated November 16, 2018.

(3) Except as specified by paragraph (h) of this AD: For Group 1 airplanes that have been converted from a passenger to freighter configuration using VT Mobile Aerospace Engineering (MAE) Inc. STC ST03562AT, at the applicable times specified for Group 2 airplanes in the “Compliance” paragraph of Boeing Alert Requirements Bulletin 757-53A0112 RB, dated November 16, 2018, do all applicable Group 2 actions, as identified in, and in accordance with, the Accomplishment Instructions of Boeing Alert Requirements Bulletin 757-53A0112 RB, dated November 16, 2018.

(4) Except as specified by paragraph (h) of this AD: For Group 4 airplanes that have been converted from a passenger to freighter configuration using VT MAE Inc. STC ST03562AT, at the applicable times specified for Group 5 airplanes in the “Compliance” paragraph of Boeing Alert Requirements Bulletin 757-53A0112 RB, dated November 16, 2018, do all applicable Group 5 actions as identified in, and in accordance with, the Accomplishment Instructions of Boeing Alert Requirements Bulletin 757-53A0112 RB, dated November 16, 2018.

(h) Exceptions to Service Information Specifications

(1) Where Boeing Alert Requirements Bulletin 757-53A0112 RB, dated November 16, 2018, uses the phrase “the original issue date of Requirements Bulletin 757-53A0112 RB,” this AD requires using “the effective date of this AD,” except where Boeing Alert Requirements Bulletin 757-53A0112 RB, dated November 16, 2018, uses the phrase “the original issue date of Requirements Bulletin 757-53A0112 RB” in a note or flag note.

(2) Where Boeing Alert Requirements Bulletin 757-53A0112 RB, dated November 16, 2018, specifies contacting Boeing for repair instructions or for alternative inspections: This AD requires doing the repair, or doing the alternative inspections and applicable on-condition actions using a method approved in accordance with the procedures specified in paragraph (j) of this AD.

(3) Where Aviation Partners Boeing Alert Service Bulletin AP757-53-002, Revision 3, dated August 14, 2019, uses the phrase “the original issue date of this service bulletin,” this AD requires using “the effective date of this AD,” except where Aviation Partners Boeing Alert Service Bulletin AP757-53-002, Revision 3, dated August 14, 2019, uses the phrase “the original issue date of this Service Bulletin” in a note or flag note.

(4) Where Aviation Partners Boeing Alert Service Bulletin AP757-53-002, Revision 3, dated August 14, 2019, specifies contacting Boeing for repair instructions or for alternative inspections: This AD requires doing the repair, or doing the alternative inspections and applicable on-condition actions using a method approved in accordance with the procedures specified in paragraph (j) of this AD.

(i) Credit for Previous Actions

This paragraph provides credit for the actions specified in paragraph (g)(2) of this AD, if those actions were performed before the effective date of this AD using Aviation Partners Boeing Alert Service Bulletin AP757-53-002, Revision 2, dated April 11, 2019.

(j) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) Except as specified by paragraph (h) of this AD: For service information that contains steps that are labeled as Required for Compliance (RC), the provisions of paragraphs (j)(4)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

(1) For more information about this AD, contact Peter Jarzomb, Aerospace Engineer, Airframe Section, FAA, Los Angeles ACO Branch, 3960 Paramount Boulevard, Lakewood, CA 90712-4137; phone: 562-627-5234; fax: 562-627-5210; email: peter.jarzomb@faa.gov.

(2) Service information identified in this AD that is not incorporated by reference is available at the addresses specified in paragraphs (l)(3) through (5) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Aviation Partners Boeing Alert Service Bulletin AP757-53-002, Revision 3 dated August 14, 2019.

(ii) Boeing Alert Requirements Bulletin 757-53A0112 RB, dated November 16, 2018.

(3) For Boeing service information identified in this AD, contact Boeing Commercial Airplanes, Attention: Contractual & Data Services (C&DS), 2600 Westminster Blvd., MC 110-SK57, Seal Beach, CA 90740-5600; phone: 562-797-1717; internet: https://www.myboeingfleet.com.

(4) For Aviation Partners Boeing service information identified in this AD, contact Aviation Partners Boeing, 2811 South 102nd St., Suite 200, Seattle, WA 98168; phone: 206-830-7699; fax: 206-767-0535; email: leng@aviationpartners.com; internet: http://www.aviationpartnersboeing.com.

(5) You may view this service information at the FAA, Transport Standards Branch, 2200 South 216th St., Des Moines, WA. For information on the availability of this material at the FAA, call 206-231-3195.

(6) You may view this service information that is incorporated by reference at the National Archives and Records Administration (NARA). For information on the availability of this material at NARA, email fedreg.legal@nara.gov, or go to: https://www.archives.gov/federal-register/cfr/ibr-locations.html.

Issued in Des Moines, Washington, on November 18, 2019.
Michael Kaszycki,
Acting Director, System Oversight Division, Aircraft Certification Service.

[FR Doc. 2019-26400 Filed 12-6-19; 8:45 am]

BILLING CODE 4910-13-P